DEPARTMENT OF COMMERCE

National Oceanic and Atmospheric Administration

[I.D. 020303G]

Proposed Information Collection; Comment Request; American Fisheries Act, Recordkeeping and Reporting Requirements.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 8, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Patsy A. Bearden at 907-586-7228, or at patsy.bearden@noaa.gov.

SUPPLEMENTARY INFORMATION:

I. Abstract

The American Fisheries Act (AFA) established an allocation program for the pollock fishery of the Bering Sea and Aleutian Islands Management Area (BSAI) which imposed major structural changes on the BSAI pollock fishery. The AFA provides the BSAI pollock fleet the opportunity to conduct their fishery in a more rational manner, while protecting non-AFA participants in the other fisheries. The AFA also affected the management of other groundfish, crab, and scallop fisheries off Alaska.

Much of the monitoring and enforcement burden is placed on participating AFA cooperatives and their members, which allows NOAA to manage the pollock fishery more precisely. Monitoring their own catch, vessels are able to individually (and in aggregate) come very close to harvesting exactly the amount of pollock they were allocated. NOAA requires certain reports and information to allow it to manage the fishery and monitor the program.

II. Method of Collection

Shoreside processor logbooks are submitted electronically. Other reports may be e-mailed, FAXed or submitted in paper form.

III. Data

OMB Number: 0648-0401.

Form Number: None.

Type of Review: Regular submission.

Affected Public: Business or other for-profit organizations, individuals or households, and not-for-profit institutions.

Estimated Number of Respondents: 26.

Estimated Time Per Response: 20 hours for a cooperative preliminary report; 8 hours for a cooperative final report; 30 minutes for a non-member vessel contract fishing application; 35 minutes for a shoreside processor electronic logbook (SPELR); 5 minutes for a cooperative pollock catch report; and 5 minutes for a designation of agent for service of process.

Estimated Total Annual Burden Hours: 1,024.

Estimated Total Annual Cost to Public: $636.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2003.
Gwellnar Banks,
Management Analyst, Office of the Chief Information Officer.

[FR Doc. 03-3084 Filed 2-6-03; 8:45 am]

BILLING CODE 3510-22-S